ENVIRONMENTAL PROTECTION AGENCY

[FRL-6725-2]

Science Advisory Board; Emergency Notification of Rescheduled Public Advisory Committee Meeting

Pursuant to the Federal Advisory Committee Act, Public Law 92-463, notice is hereby given that the Clean Air Scientific Advisory Committee (CASAC) teleconference meeting scheduled for Monday, June 26, 2000 from 11 a.m. to 12 p.m. Eastern Daylight Time has been rescheduled to Wednesday, July 5, 2000. The purpose of the teleconference meeting is to review a report developed by its Technical Subcommittee on Fine Particle Monitoring. The meeting will be coordinated through a conference call connection in Room 6013 in the USEPA, Ariel Rios Building North, 1200 Pennsylvania Avenue, NW, Washington, DC 20460. Other than the change in date, no other changes in the details of the meeting have been made. Details are contained in 65 FR 36691, June 9, 2000.

Dated: June 21, 2000.
A. Robert Flaak,
Acting Staff Director, Science Advisory Board.

[FR Doc. 00-16165 Filed 6-23-00; 8:45 am]

BILLING CODE 6560-50-P